DEPARTMENT OF VETERANS AFFAIRS

Veteran Listening Sessions on Advancing Racial Equity and Support for Underserved Communities Through the Federal Government

AGENCY: Department of Veterans Affairs.

ACTION: Announcement for public meetings.

SUMMARY: The Veterans Health Administration (VHA) will conduct 55 virtual Diversity, Equity, and Inclusion (DE&I) listening sessions for Veterans August-September 2021 on Advancing Racial Equity and Support for Underserved Communities through the Federal Government.

DATES: The Department of Veterans Affairs (VA) will execute 48 site-specific virtual listening sessions. Below are the dates and locations, which may be adjusted due to ongoing developments with COVID-19:

• August 16-17, 2021—San Francisco VA Health Care System (San Francisco, CA)

• August 19, 2021—VA Northern California Health Care System (Sacramento, CA)

• August 23-24, 2021—Kansas City VA Medical Center (Kansas City, MO)

• August 26, 2021—Jack C. Montgomery Medical Center (Tulsa, OK)

• September 13-14, 2021—Charlie Norwood Medical Center (Augusta, GA)

• September 15-16, 2021—Robley Rex VA Medical Center (Louisville, KY)

• September 20-21, 2021—Hampton VA Medical Center (Hampton, VA)

• September 22-23, 2021—Baltimore VA Medical Center (Baltimore, MD)

FOR FURTHER INFORMATION CONTACT: Elizabeth Andringa, Office of Healthcare Transformation (Mail code 10T), 810 Vermont Avenue NW, Washington, DC 20420, 727-409-1293. (This is not a toll-free telephone number.)

SUPPLEMENTARY INFORMATION:

Background

On January 20, 2021, President Joseph R. Biden issued E.O. 13985 on Advancing Racial Equity and Support for Underserved Communities through the Federal Government.

Consultation With Interested Parties

Executive Order 13985 requires VA to consult with members of communities who have been historically underrepresented in the Federal Government and underserved by, or subject to discrimination in, Federal policies and programs.

The term “underserved communities” refers to populations sharing a particular characteristic, as well as geographic communities, that have been systematically denied a full opportunity to participate in aspects of economic, social, and civic life, such as Black, Latino, and Indigenous and Native American persons, Asian Americans and Pacific Islanders and other persons of color; members of religious minorities; lesbian, gay, bisexual, transgender, questioning/queer and related identities (LGBTQ+) persons; persons with disabilities; persons who live in rural areas; and persons otherwise adversely affected by persistent poverty or inequality.

VHA will execute listening sessions to gather feedback on:

• Veterans' experiences and perceptions related to Diversity, Equity & Inclusion (DE&I) at VA healthcare facilities.

• Ways Veterans feel they can be included.

• Barriers to effective healthcare for diverse Veteran populations.

• Unmet needs of diverse Veteran populations.

Comments received in response to this notice will be evaluated and, as appropriate, incorporated into VA's efforts to improve support to underserved communities.

Additional Registration Information

Individual registration: VA encourages individual registrations for those not affiliated with or representing a group, association or organization.

Group registration: Identification of the name of the group, association or organization should be indicated in your registration request. Due to virtual platform meeting limitations of WebEx and the statutory mandate that VA consult with certain entities, VA may select certain entities to speak or may limit the size of a group's registration to allow receipt of testimonies and/or technical remarks from a broad, diverse group of stakeholders. Oral comments, testimonies and/or technical remarks may be limited from a group, association or organization to no more than two (2) individuals representing the same group, association or organization. Efforts will be made to accommodate all attendees who wish to participate. However, VA will give priority to Veterans, family members, caregivers, survivors of underserved communities or their representatives who register before September 15, 2021, at 4 p.m. Eastern, and wish to provide oral comments, testimonies and/or technical remarks. The length of time allotted for all participants to provide oral comments, testimonies and/or technical remarks during the meeting will be no more than 60 minutes total and is subject to the number of participants selected to speak, to ensure time is allotted. There will be no opportunity for audio-visual presentations during the meeting.

Audio (For listening purposes only): Limited to the first 200 participants, on a first-come, first-served basis. Advanced registration is not required. Audio attendees will not be allowed to offer oral comments, testimonies and/or technical remarks as the line will be muted.

Note: Should it be necessary to cancel the meeting due to technical issues or other emergencies, VA will take available measures to notify registered participants.

Listening Session Agenda

• Welcome and Introduce Team—2 min

• Opening Remarks—VHA Senior Leader(s)—5 mins

• Open comment period—DE&I Facilitator(s)—48 mins

• Closing Remarks—VHA Senior Leader(s)—5 mins

Site-specific virtual listening sessions. Each location will execute six (6) virtual sessions on the dates scheduled above. Each session will be approximately 60 minutes. All sessions will be held virtually as a WebEx Event. The links to register are available at www.va.gov/ormdi. Advanced registration for individuals and groups is strongly encouraged. Individuals or groups who seek to speak must register by 72 hours before the start of each session. Speakers must virtually check-in one hour prior to the listening session to test WebEx access and resolve any technical issues. All other comments may be submitted in writing during the listening session. Target audiences are listed below and include Veterans, family members, caregivers, survivors, community leaders and partners, and other representatives who provide support to underserved communities:

• Session 1: Racial/ethnic minorities

• Session 2: LGBTQ+

• Session 3: Veterans with disabilities

• Session 4: Women Veterans

• Session 5: Religious minority Veterans and Veterans otherwise adversely affected by persistent inequality

• Session 6: Community partners

Virtual listening sessions for participants from all eight locations. General virtual listening sessions will be held on September 28 & 30, 2021, will be approximately 60 minutes each, and will target participants from the eight locations listed above who were unable to attend the site-specific virtual sessions. The links to register are available at www.va.gov/ormdi.

Signing Authority: Denis McDonough, Secretary of Veterans Affairs, approved this document on August 17, 2021, and authorized the undersigned to sign and submit the document to the Office of the Federal Register for publication electronically as an official document of the Department of Veterans Affairs.

Jeffrey M. Martin,
Assistant Director, Office of Regulation Policy & Management, Office of the Secretary, Department of Veterans Affairs.

[FR Doc. 2021-18153 Filed 8-23-21; 8:45 am]

BILLING CODE 8320-01-P